DEPARTMENT OF ENERGY

Federal Energy Regulatory Commission

[Project No. 13123-002—California Eagle Mountain Pumped Storage Project]

Eagle Crest Energy Company; Notice of Proposed Restricted Service List for a Programmatic Agreement for Managing Properties Included in or Eligible for Inclusion In the National Register of Historic Places

September 8, 2009.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

The Commission staff is consulting with the California State Historic Preservation Officer (hereinafter, SHPO) and the Advisory Council on Historic Preservation (hereinafter, Council) pursuant to the Council's regulations, 36 CFR part 800, implementing section 106 of the National Historic Preservation Act, as amended, (16 U.S.C. 470 f), to prepare and execute a programmatic agreement for managing properties included in, or eligible for inclusion in, the National Register of Historic Places at the Eagle Mountain Pumped Storage Project No. 13123-002.

The programmatic agreement, when executed by the Commission and the SHPO, would satisfy the Commission's section 106 responsibilities for all individual undertakings carried out in accordance with the license until the license expires or is terminated (36 CFR 800.13[e]). The Commission's responsibilities pursuant to section 106 for the Eagle Mountain Pumped Storage Project would be fulfilled through the programmatic agreement, which the Commission proposes to draft in consultation with certain parties listed below. The executed programmatic agreement would be incorporated into any Order issuing a license.

For the purpose of commenting on the programmatic agreement, we propose to restrict the service list for the aforementioned project as follows:

Don Klima or Representative Advisory Council on Historic Preservation, The Old Post Office Building, 1100 Pennsylvania Avenue, NW. Suite 803, Washington, DC 20004;

Stephen Lowe or Representative, Eagle Crest Energy Company, One El Paseo West Building, 74-199 El Paseo Drive, Suite 204, Palm Desert, CA 92260;

Cherilyn E. Widell, SHPO, or Representative, CA Office of Historic Preservation, 1416 9th Street, Sacramento, CA 95814;

Richard M. Milanovich, Chairman, or Representative, Agua Caliente Band of Cahuilla Indians, 5401 Dinah Shore Drive, Palm Springs, CA 92264;

Pattie Tuck, THPO, Agua Caliente Band of Cahuilla Indians, 5401 Dinah Shore Drive, Palm Springs, CA 92264;

Diana L. Chihuahua, or Representative, Torres-Martinez Desert Cahuilla Indians, P.O. Box 1160, Thermal, CA 92274;

Ron Escobar, Chemehuevi Reservation, P.O. Box 1976, Havasu Lake, CA 92363;

John Gomez, Ramona Band of Cahuilla Mission Indians, 56310 Highway 371, Suite B, Anza, CA 92539;

Robert Martin, Chairman, or Representative, Morongo Band of Mission Indians, 11581 Potrero Road, Banning, CA 92220;

Director or Representative, U.S. Bureau of Land Management, 22835 Calle San Juan De Los Lagos, Moreno Valley, CA 92553;

Donald H. Clarke, Law Offices of GKRSE, 1500 K Street, NW., Suite 330, Washington, DC 20005;

Michael Contreras, Jr., Morongo Band of Mission Indians, 13000 Fields Road, Banning, CA 92220;

Luther Salgado, Sr., or Representative, Cahuilla Band of Indians, P.O. Box 391741, Anza, CA 92539.

Any person on the official service list for the above-captioned proceeding may request inclusion on the restricted service list, or may request that a restricted service list not be established, by filing a motion to that effect within 15 days of this notice date. In a request for inclusion, please identify the reason(s) why there is an interest to be included. Also please identify any concerns about historic properties, including properties of traditional religious and cultural importance to an Indian tribe. If historic properties would be identified within the motion, please use a separate page, and label it NON-PUBLIC Information.

The original and 8 copies of any such motion must be filed with Kimberly D. Bose, Secretary of the Commission, 888 First Street, NE., Washington, DC 20426, and must be served on each person whose name appears on the official service list. Please put the following on the first page: Eagle Mountain Pumped Storage Project No. 13123-002. Motions may be filed electronically via the Internet in lieu of paper. The Commission strongly encourages electronic filings. See 18 CFR 385.2001(a)(1)(iii) and the instructions on the Commission's Web site (http://www.ferc.gov) under the “e-Filing” link.

If no such motions are filed, the restricted service list will be effective at the end of the 15 day period. Otherwise, a further notice will be issued ruling on any motion or motions filed within the 15 day period.

Kimberly D. Bose,
Secretary.

[FR Doc. E9-22090 Filed 9-14-09; 8:45 am]

BILLING CODE 6717-01-P